DEPARTMENT OF TRANSPORTATION

Federal Highway Administration

Environmental Impact Statement; Ada County, ID

AGENCY: Federal Highway Administration (FHWA), DOT.

ACTION: Letter of project initiation; Notice of Intent to prepare an Environmental Impact Statement (EIS); and initiation of public and agency scoping for the extension of State Highway 16 (SH 16) between State Highway 44 (SH 44) and Interstate 84 (I-84) in Ada County, Idaho.

SUMMARY: The FHWA hereby gives notice that it intends to prepare an EIS for the proposed new construction of approximately 7 miles of SH 16 between SH 44 (State Street) and I-84 in the general vicinity of McDermott Road in Ada County, Idaho. The corridor study will evaluate the location and design for future construction of this highway segment. This EIS is being prepared and considered in accordance with the National Environmental Policy Act (NEPA) of 1969, regulations of the Council on Environmental Quality (40 CFR parts 1500-1508, and FHWA regulations, guidance and policy.

Anticipated Federal approvals/actions needed for this project to be constructed include permits for Sections 401 and 404 of the Clean Water Act (U.S. Army Corps of Engineers), issuance of a Biological Opinion by the U.S. Fish and Wildlife Service through consultation as required by Section 7 of the Endangered Species Act, and compliance with Section 106 of the National Historic Preservation Act.

Cooperating Agencies: There are no cooperating agencies yet identified for this project.

DATES: Comments on the scope of the EIS for the proposed project should be received no later than January 31, 2007. Comments and questions should be directed to the address listed below. Public comments are welcome anytime during the NEPA process and should be directed to the address listed below. Additional formal opportunities for public participation after the Public Scoping are tentatively scheduled as follows:

Review and comment of Draft EIS (including a public hearing): Fall of 2009.

Review of Final EIS: Fall 2010.

Notices of availability for the Draft EIS, Final EIS and Record of Decision will be provided through direct mail, the Federal Register and other media. Notification also will be sent to Federal, State, local agencies, persons, and organizations that submit comments or questions. Precise schedules and locations for public meetings will be announced in the local news media. Interested individuals and organizations may request to be included on the mailing list for the distribution of meeting announcements and associated information.

FOR FURTHER INFORMATION CONTACT: Ed Johnson, Field Operations Engineer; Federal Highway Administration, 3050 Lake Harbor Lane, Suite 126, Boise, Idaho, 83703, Telephone: (208) 334-9180; or Gwen Smith, GARVEE Public Involvement Coordinator, Idaho Transportation Department, P.O. Box 7129, Boise, Idaho 83707-1129, Telephone: (208) 334-4444; or Steve Alters, CIP, 720 Park Blvd, Boise, Idaho, 83729, Telephone: (208) 386-5004.

SUPPLEMENTARY INFORMATION:

Electronic Access

An electronic copy of this document may be downloaded using a modem and suitable communications software from the Government Printing Office's Electronic Bulletin Board Service at (202) 512-1661. Internet users may reach the Office of the Federal Register's home page at: http://www/nara.gov/fedreg and the Government Printing Office's database at: http://www.access.gpo.gov.nara.

Background

The FHWA in cooperation with the Idaho Department of Transportation (ITD), and Connecting Idaho Partners (CIP) will prepare an EIS to identify an alignment for the extension of State Highway 16 (SH 16) from SH 44 (State Street) to Interstate 84 (I-84) in Ada County, Idaho. This extension includes a new bridge across the Boise River. Notice is hereby given that the public scoping process has been initiated to prepare an EIS that will address the impacts of and alternatives to the proposal. The purpose of the scoping process is to solicit public comment regarding the full spectrum of issues and concerns, including a suitable range of alternatives, and the nature and extent of potential environmental impacts and appropriate mitigation measures that should be addressed in the EIS process. The EIS will examine the short and long-term impacts of a reasonable range of alternatives, including the no action alternative, on the natural, physical, and human environments. The impacts assessment will include, but not be limited to, impacts on wetlands, wildlife, and fisheries; social environment; changes in land use; aesthetics; changes in traffic; and economic impacts. Environmental Justice (as outlined in Executive Order 12898) will also be addressed as part of the impact assessment. The EIS will also examine measures to mitigate adverse impacts resulting from the proposed action.

Comments are being solicited from Federal, State, and local agencies and from private organizations and citizens who have interest in this proposal. Public information meetings will be held in the project area to discuss the potential alignments. The draft EIS will be available for public and agency review, and a public hearing will be held to receive comments. Public notice will be given of the time and place of all meetings and hearings.

Comments and/or suggestions from all interested parties are requested, to ensure that the purpose and need for the project, the full range of all issues, and significant environmental issues in particular, are identified and reviewed. Comments or questions concerning this proposed action and/or its EIS should be directed to the FHWA, ITD or CIP at the addresses listed previously.

It is anticipated that a draft EIS will be available in the Fall of 2009.

(Catalog of Federal Domestic Assistance Program Number 20.205, Highway Planning and Construction. The regulations implementing Executive Order 12372 regarding intergovernmental consultation on Federal programs and activities apply to this proposed Action.)

Authority: 23 U.S.C. 315; 23 CFR 771.123; 49 CFR 1.48.

Issued on: January 7, 2007.
Stephen Moreno,
Idaho Division Administrator, FHWA.

[FR Doc. 07-64 Filed 1-10-07; 8:45 am]

BILLING CODE 4910-RY-M